DEPARTMENT OF COMMERCE

National Oceanic and Atmospheric Administration

Notice of Availability of Evaluation Findings for Coastal Zone Management Programs and National Estuarine Research Reserve

AGENCY: Office for Coastal Management, National Ocean Service, National Oceanic and Atmospheric Administration, Department of Commerce.

ACTION: Notice of availability.

SUMMARY: Notice is hereby given of the availability of final evaluation findings for the Sapelo Island National Estuarine Research Reserve and six State and Territory coastal management programs: American Samoa, Hawaii, Mississippi, New Hampshire, New York, and Oregon, which were prepared pursuant to sections 312 and 315 of the Coastal Zone Management Act.

ADDRESSES: Copies of these final evaluation findings may be found at https://coast.noaa.gov/czm/evaluations/evaluation_findings/index.html or by submitting a written request to czma.evaluations@noaa.gov.

FOR FURTHER INFORMATION CONTACT: Michael Migliori, Manager, Evaluation and Compliance, NOAA Office for Coastal Management, by phone at (443) 332-8936 or email at Michael.Migliori@noaa.gov.

SUPPLEMENTARY INFORMATION: NOAA's Office for Coastal Management has completed the coastal zone management program final evaluation findings for the States of Hawaii, Mississippi, New Hampshire, New York, and Oregon and the Territory of American Samoa. The States and Territory were found to be implementing and enforcing their federally approved coastal zone management programs, addressing the national coastal management objectives identified in Coastal Zone Management Act section 303(2), and adhering to the programmatic terms of their financial assistance awards. In addition, NOAA's Office for Coastal Management has completed the final evaluation findings for Sapelo Island National Estuarine Research Reserve. The reserve was found to be adhering to the terms of the reserves' financial assistance awards and to the programmatic requirements of the Coastal Zone Management Act, including the requirements of Coastal Zone Management Act section 315(b)(2) and its implementing regulations.

NOAA published notices in the Federal Register for public meetings and opportunities to submit public comments on the evaluation of these State and Territory coastal zone management programs and the national estuarine research reserve. See 88 FR 1057 (Jan. 6, 2023) (American Samoa); 88 FR 50267 (June 13, 2024) (Hawaii); 88 FR 22677 (Apr. 2, 2024) (Mississippi); 88 FR 64887 (Sept. 20, 2023) (New Hampshire); 88 FR 3389 (Jan. 19, 2023) (New York); 88 FR 46778 (July 20, 2023) (Oregon); and 88 FR 85265 (Dec. 7, 2023) (Sapelo Island). NOAA addressed the public comments it received in the final evaluation findings.

Authority: 16 U.S.C. 1458 and 1461(f); 15 CFR 921.40 and 923.133.

Keelin Kuipers,
Deputy Director, Office for Coastal Management, National Ocean Service, National Oceanic and Atmospheric Administration.

[FR Doc. 2025-05158 Filed 3-26-25; 8:45 am]

BILLING CODE 3510-08-P